DEPARTMENT OF COMMERCE

National Oceanic and Atmospheric Administration

[RTID 0648-XE418]

Pacific Fishery Management Council; Public Meetings

AGENCY: National Marine Fisheries Service (NMFS), National Oceanic and Atmospheric Administration (NOAA), Commerce.

ACTION: Notice of public meetings.

SUMMARY: The Pacific Fishery Management Council (Pacific Council) and its advisory bodies will meet November 13-18, 2024, in Costa Mesa, CA and via webinar. The Council meeting will be live streamed with the opportunity to provide public comment remotely.

DATES: The Pacific Council meeting will begin on Thursday, November 14, 2024, at 10 a.m., Pacific Time (PT), reconvening at 8 a.m. on Friday, November 15 through Monday, November 18, 2024. All meetings are open to the public, except for a Closed Session held from 8 a.m. to 10 a.m., Thursday, November 14, 2024, to address litigation and personnel matters. The Pacific Council will meet as late as necessary each day to complete its scheduled business.

ADDRESSES:

Meeting address: Meetings of the Pacific Council and its advisory entities will be held at the Hilton Orange County at 3050 Bristol Street in Costa Mesa, CA 92626; telephone: (714) 540-7000. Specific meeting information, including directions on joining the meeting, connecting to the live stream broadcast, and system requirements will be provided in the meeting announcement on the Pacific Council's website (see www.pcouncil.org). You may send an email to Mr. Kris Kleinschmidt (kris.kleinschmidt@noaa.gov) or contact him at (503) 820-2412 for technical assistance.

Council address: Pacific Fishery Management Council, 7700 NE Ambassador Place, Suite 101, Portland, OR 97220-1384.

FOR FURTHER INFORMATION CONTACT: Mr. Merrick Burden, Executive Director, Pacific Council; telephone: (503) 820-2280 or (866) 806-7204 toll-free, or access the Pacific Council website, www.pcouncil.org, for the proposed agenda and meeting briefing materials.

SUPPLEMENTARY INFORMATION: The November 13-18, 2024 meeting of the Pacific Council will be streamed live on the internet. The broadcasts begin initially at 10 a.m. PT Thursday, November 14, 2024, and 8 a.m. PT Friday, November 15 through Monday, November 18, 2024. Broadcasts end when business for the day is complete. Only the audio portion and presentations displayed on the screen at the Pacific Council meeting will be broadcast. The audio portion for the public is listen-only except that an opportunity for oral public comment will be provided prior to Council Action on each agenda item. Additional information and instructions on joining or listening to the meeting can be found on the Pacific Council's website (see www.pcouncil.org).

The following items are on the Pacific Council agenda, but not necessarily in this order. Agenda items noted as “Final” refer to actions the Council may take requiring the transmission of a proposed fishery management plan, proposed plan amendment, or proposed regulations to the U.S. Secretary of Commerce, under sections 304 or 305 of the Magnuson-Stevens Fishery Conservation and Management Act. Additional detail on agenda items, Council action, and advisory entity meeting times, are described in Agenda Item A.3, Proposed Council Meeting Agenda, and will be in the advance November 2024 briefing materials and posted on the Pacific Council website at www.pcouncil.org no later than Friday, October 25, 2024.

A. Call to Order

1. Opening Remarks

2. Roll Call

3. Agenda

4. Executive Director's Report

B. Open Comment Period

1. Comments on Non-Agenda Items

C. Administrative Matters

1. Council Coordination Committee Report

2. Fiscal Matters

3. Legislative Matters

4. Approve Council Meeting Record

5. Membership Appointments and Council Operating Procedures—Including Final 2025-27 Advisory Body Appointments

6. Future Council Meeting Agenda and Workload Planning

D. Cross Fishery Management Plan

1. National Marine Fisheries Service (NMFS) 2024 Accomplishments and 2025 Priorities

2. Marine Planning

3. Research and Data Needs

4. Council Operations and Priorities

E. Habitat Issues

1. Current Habitat Issues

F. Salmon Management

1. National Marine Fisheries Service Report

2. Final Methodology Review Results and Proposed Council Operating Procedure (COP) 15 Updates

3. Queets Spring/Summer Chinook Rebuilding Plan—Final

4. Final 2025 Preseason Management Schedule

5. Klamath River Fall Chinook Workgroup Progress Report and Recommendations

6. Sacramento River Fall Chinook Workgroup Progress Report and Recommendations

G. Pacific Halibut Management

1. 2025 Catch Sharing Plan and Annual Regulations—Final

2. Commercial Fishery Regulation Changes: Vessel Monitoring Systems, Seabird Avoidance, and Catch Reporting—Final

H. Highly Migratory Species Management

1. National Marine Fisheries Service Report

2. International Management Activities including Bluefin Tuna Trip Limits

3. Biennial Harvest Specifications and Management Measures—Final

4. Highly Migratory Species Roadmap Workshop Report and Next Steps

I. Groundfish Management

1. National Marine Fisheries Service Report

2. Trawl Catch Share Program and Intersector Allocation Reviews: Hearing Officers and Locations

3. Methodology Review: Final Fishery Impact Model Review Topics and Stock Assessment Methodologies

4. Stock Definitions for Species Assessed in 2025 and 2027—Final

5. Cordell Bank Conservation Area Revisions

6. Inseason Adjustments and Technical Corrections for 2025-2026—Final Action

J. Coastal Pelagic Species Management

1. National Marine Fisheries Service Report

2. Pacific Sardine Rebuilding Plan Fishery Management Plan Amendment (FMP)—Final

3. Stock Assessment Prioritization

Advisory Body Agendas

Advisory body agendas will include discussions of relevant issues that are on the Pacific Council agenda for this meeting and may also include issues that may be relevant to future Council meetings. Proposed advisory body agendas for this meeting will be available on the Pacific Council website, www.pcouncil.org, no later than Friday, October 25, 2024 by the end of the business day.

Schedule of Ancillary Meetings

Day 1—Wednesday, November 13, 2024

Scientific and Statistical Committee 8 a.m.

Salmon Technical Team 8 a.m.

Groundfish Management Team 8 a.m.

Groundfish Advisory Subpanel 8 a.m.

Legislative Committee 10 a.m.

Budget Committee 2 p.m.

Enforcement Consultants 2 p.m.

Day 2—Thursday, November 14, 2024

Oregon State Delegation 7 a.m.

California State Delegation 7 a.m.

Washington State Delegation 7 a.m.

Salmon Advisory Subpanel 8 a.m.

Scientific and Statistical Committee 8 a.m.

Highly Migratory Species Advisory Subpanel 8 a.m.

Highly Migratory Species Management Team 8 a.m.

Groundfish Management Team 8 a.m.

Groundfish Advisory Subpanel 8 a.m.

Enforcement Consultants As Necessary

Day 3—Friday, November 15, 2024

Oregon State Delegation 7 a.m.

California State Delegation 7 a.m.

Washington State Delegation 7 a.m.

Groundfish Advisory Subpanel 8 a.m.

Groundfish Management Team 8 a.m.

Highly Migratory Species Advisory Subpanel 8 a.m.

Highly Migratory Species Management Team 8 a.m.

Enforcement Consultants As Necessary

Day 4—Saturday, November 16, 2024

Oregon State Delegation 7 a.m.

California State Delegation 7 a.m.

Washington State Delegation 7 a.m.

Coastal Pelagic Species Advisory Subpanel 8 a.m.

Coastal Pelagic Species Management Team 8 a.m.

Enforcement Consultants As Necessary, Online

Day 5—Sunday, November 17, 2024

Oregon State Delegation 7 a.m.

California State Delegation 7 a.m.

Washington State Delegation 7 a.m.

Coastal Pelagic Species Advisory Subpanel 8 a.m.

Coastal Pelagic Species Management Team 8 a.m.

Enforcement Consultants As Necessary, Online

Day 6—Monday, September 23, 2024

Oregon State Delegation 7 a.m.

California State Delegation 7 a.m.

Washington State Delegation 7 a.m.

Although non-emergency issues not contained in the meeting agenda may be discussed, those issues may not be the subject of formal action during these meetings. Action will be restricted to those issues specifically listed in this document and any issues arising after publication of this document that require emergency action under section 305(c) of the Magnuson-Stevens Fishery Conservation and Management Act, provided the public has been notified of the intent to take final action to address the emergency.

Special Accommodations

Requests for sign language interpretation or other auxiliary aids should be directed to Mr. Kris Kleinschmidt (kris.kleinschmidt@noaa.gov; (503) 820-2412) at least 10 business days prior to the meeting date.

Authority: 16 U.S.C. 1801 et seq.

Dated: October 23, 2024.
Rey Israel Marquez,
Acting Deputy Director, Office of Sustainable Fisheries, National Marine Fisheries Service.

[FR Doc. 2024-24988 Filed 10-25-24; 8:45 am]

BILLING CODE 3510-22-P